DEPARTMENT OF THE INTERIOR

Bureau of Land Management

[CA-650-01-1220-JG-064B]

Notice of Intent To Prepare an Amendment to the California Desert Conservation Area Plan and Environmental Impact Statement

AGENCY: Bureau of Land Management, Interior.

ACTION: Notice of intent to prepare an amendment to the California Desert Conservation Area (CDCA) Plan and Environmental Impact Statement (EIS) for Surprise Canyon in Panamint Mountains, Inyo County, CA.

SUMMARY: Pursuant to 43 CFR 1610.2(c), notice is hereby given that the Bureau of Land Management (BLM) proposes to amend the CDCA Plan (1980 as amended). The proposed amendment will establish or revise trail designations for off-road vehicles within the Surprise Canyon Area of Critical Environmental Concern (ACEC). The authority to designate is in accordance with 43 CFR 8342. The proposals will pertain to public lands addressed by the California Desert Conservation Area Plan in Inyo County that lie east of Highway 178 and approximately 23 miles north of the community of Trona. The proposed plan amendment will include an EIS in accordance with the National Environmental Policy Act and CFR 1610.5-5.

The EIS will evaluate a full range of alternative means of access into the Surprise Canyon ACEC. During the 30 days scoping period, the public can assist the BLM in developing the range of alternatives that will be addressed.

DATES: The public is invited to submit comments on the scope of the plan amendment and EIS. Written comments will be accepted for 30 days from the publication date of this notice in the Federal Register. The specific date, time, and location of public scoping meetings will be announced by the Ridgecrest Field Office.

ADDRESSES: Scoping comments in response to this notice should be sent to Hector Villalobos, Field Manager, Bureau of Land Management, 300 South Richmond Road, Ridgecrest CA 93555, (760) 384-5405. Comments, including names and addresses of respondents, will be available for public review at the Ridgecrest Field Office during normal working hours (7:45 AM to 4:30 PM, except holidays), and may be published as part of the EIS or other related documents. Individuals may request confidentiality. If you wish to withhold your name or address from public review or from disclosure under the Freedom of Information Act, you must state this promptly at the beginning of you comment. Such requests will be honored to the extent allowed by law. All submissions from organizations or businesses will be made available for public inspection in their entirety.

FOR FURTHER INFORMATION CONTACT: Jeffery Aardahl, Bureau of Land Management, Ridgecrest Field Office, 300 South Richmond Road, Ridgecrest CA 93555, (760) 384-5420.

SUPPLEMENTARY INFORMATION: On May 29, 2001, BLM implemented an interim closure to all motorized vehicles on Route P71 in the Surprise Canyon Area of Critical Environmental Concern. The closure will remain in effect until the plan amendment is approved and implemented.

The following are preliminary issues identified: (1) The canyon area currently does not meet the BLM's minimum standards for a properly functioning riparian system due to soil erosion and streambed alternations caused by motorized vehicle use; (2) several federal and state sensitive plant and animal species that inhabit the area are being affected; and (3) value of the canyon area for recreation, including use of motorized vehicles.

The preliminary planning criteria include: (1) The CDCA amendment will be consistent with officially approved resource related plans, policies and programs of other Federal agencies, State and local governments, and Indian Tribes; (2) the amendment process and ORV trail designations shall be conducted in compliance with the Federal Land Policy Management Act of 1976 (FLPMA), planning regulations (43 CFR 1600), ORV trail designation regulations (43 CFR 8340), BLM manual guidance, and all applicable Federal laws affecting BLM land use decisions and ORV designations; (3) the planning process shall include an EIS with a biological evaluation prepared in compliance with the National Environmental Policy Act of 1969 (NEPA), the President's Council of Environmental Quality (CEQ) regulations (40 CFR 1500), and BLM guidance.

The public is invited to submit written information to the BLM that will be used to identify issues, concerns and opportunities related to various alternative means of access in the Surprise Canyon ACEC. Those members of the public who simply want to be placed on the mailing list for this project can make such a request in writing. All such information and requests should be submitted in writing to: Field Manager, Bureau of Land Management, Ridgecrest Field Office, 300 S. Richmond Rd., Ridgecrest, CA 93555, Attn: Resources Management Branch Chief.

Digital electronic photos and maps of the Surprise Canyon area can be found at: http://www.ca.blm.gov/ridgecrest.

Dated: April 12, 2002.
Alan Stein,
Acting California Desert District Manager.

[FR Doc. 02-13571 Filed 5-29-02; 8:45 am]

BILLING CODE 4310-40-P